DEPARTMENT OF COMMERCE

International Trade Administration

Export Trade Certificate of Review

ACTION: Notice of issuance of an amended Export Trade Certificate of Review, Application No. 97-6A003.

SUMMARY: The U.S. Department of Commerce has issued an amended Export Trade Certificate of Review to the Association for the Administration of Rice Quotas, Inc. (“AARQ”) on February 19, 2003. Notice of issuance of the original Certificate was published in the Federal Register on January 28, 1998 (63 FR 4220).

FOR FURTHER INFORMATION CONTACT: Jeffrey C. Anspacher, Director, Office of Export Trading Company Affairs, International Trade Administration, by telephone at (202) 482-5131 (this is not a toll-free number) or e-mail at oetca@ita.doc.gov.

SUPPLEMENTARY INFORMATION: Title III of the Export Trading Company Act of 1982 (15 U.S.C. sections 4001-21) authorizes the Secretary of Commerce to issue Export Trade Certificates of Review. The regulations implementing Title III are found at 15 CFR part 325 (2003).

The Office of Export Trading Company Affairs is issuing this notice pursuant to 15 CFR 325.6(b), which requires the Department of Commerce to publish a summary of the certification in the Federal Register. Under section 305(a) of the Act and 15 CFR 325.11(a), any person aggrieved by the Secretary's determination may, within 30 days of the date of this notice, bring an action in any appropriate district court of the United States to set aside the determination on the ground that the determination is erroneous.

Description of Amended Certificate

Export Trade Certificate of Review No. 97-00003 was issued to AARQ on January 21, 1998 (63 FR 4220, January 28, 1998) and previously amended on June 4, 1998 (63 FR 31738, June 10, 1998); September 25, 1998 (63 FR 53013, October 2, 1998); June 1, 2000 (65 FR 36410, June 8, 2000); April 5, 2001 (66 FR 21368, April 30, 2001); and February 5, 2002 (67 FR 7357, February 19, 2002).

AARQ's Export Trade Certificate of Review has been amended to:

1. Add each of the following companies as a new “Member” of the Certificate within the meaning of section 325.2(l) of the Regulations (15 CFR 325.2(l) (2003)): JIT Products, Inc., Davis, California; Nidera, Inc., Stamford, Connecticut (a subsidiary of Nidera Handelscompagnie BV (Netherlands)); and Sunshine Rice, Inc., Stockton, California (a subsidiary of Sunshine Business Enterprises, Inc.).

2. Delete the following companies as Members of the Certificate: Glencore Ltd., Stamford, Connecticut (a subsidiary of Glencore International AG), for the activities of Glencore Grain Division; and Liberty Rice Mill, Inc., Kaplan, Louisiana.

3. Change the listing of the following Members: “CAL PAC Investments, LLC dba California Pacific Rice Milling, Woodland, California” to read “Gold River Mills, LLC dba California Pacific Rice Milling, Woodland, California;” “Incomar Texas Ltd., and its subsidiary, Gulf Rice Arkansas, LLC, Houston, Texas” to read “Gulf Rice Arkansas, LLC (subsidiary of Ansera Marketing, Inc.), Houston, Texas;” “PS International, Ltd., Durham, North Carolina” to read “PS International, Ltd., Chapel Hill, North Carolina;” “Texana Rice, Inc., Houston, Texas” to read “Texana Rice Inc., Louise, Texas;” “The Connell Company, Berkeley Heights, New Jersey” to read “The Connell Company for the activities of itself and its two divisions, Connell Rice & Sugar Co. and Connell International Company, Berkeley Heights, New Jersey;” and “Uncle Ben's, Inc., Houston, Texas” to read “Uncle Ben's Inc., Greenville, Missisippi.”

The effective date of the amended certificate is November 19, 2002. A copy of the amended certificate will be kept in the International Trade Administration's Freedom of Information Records Inspection Facility, Room 4102, U.S. Department of Commerce, 14th Street and Constitution Avenue, NW., Washington, DC 20230.

Dated: February 19, 2003.
Jeffrey C. Anspacher,
Director, Office of Export Trading Company Affairs.

[FR Doc. 03-4423 Filed 2-24-03; 8:45 am]

BILLING CODE 3510-DR-P